DEPARTMENT OF DEFENSE

Department of the Air Force

Record of Decision for Comprehensive Airspace Initiative at Moody Air Force Base, Georgia Environmental Impact Statement

ACTION: Notice of availability of Record of Decision.

SUMMARY: On August 15, 2023, the Department of the Air Force (DAF) signed the Record of Decision (ROD) for Comprehensive Airspace Initiative at Moody Air Force Base, Georgia, Environmental Impact Statement.

ADDRESSES: Mr. Lorence Busker, 23rd Civil Engineer Squadron, 3485 Georgia Street, Moody Air Force Base, Georgia 31699-1707, Telephone: (229) 257-2396; lorence.busker@us.af.mil.

SUPPLEMENTARY INFORMATION: The DAF has selected Modified Alternative 1: Create the Corsair North Low, Corsair South Low, Mustang Low, and Warhawk Low Military Operations Areas (MOAs) with a floor of 1,000 ft above ground level (AGL) and a ceiling of 7,999 ft above mean sea level (MSL) beneath and within the lateral confines of the existing Corsair North, Corsair South, Mustang and Warhawk MOAs, respectively; create the Thud Low MOA with a floor of 4,000 ft AGL and a ceiling of 7,999 ft MSL beneath and within the lateral confines of the existing Thud MOA; create Grand Bay MOA with a floor of 100 ft AGL and a ceiling of 499 ft AGL beneath and within the lateral confines of the existing Restricted Area R-3008C; and lower the floor of Moody 2 North MOA from 500 ft AGL to 100 ft AGL. Based on this decision, the DAF will request the Federal Aviation Administration modify the low-altitude airspace floors to enhance low-altitude training within the Moody Airspace Complex.

The DAF decision documented in the ROD was based on matters discussed in the Final Environmental Impact Statement, inputs from the public and regulatory agencies, and other relevant factors. The Final Environmental Impact Statement was made available to the public on May 19, 2023, through a Notice of Availability in the Federal Register (88 FR 32215) with a waiting period that ended on June 20, 2023.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Mia Day,
Acting Air Force Federal Register Liaison Officer.

[FR Doc. 2023-19557 Filed 9-11-23; 8:45 am]

BILLING CODE 5001-10-P